DEPARTMENT OF TRANSPORTATION

Federal Highway Administration

Supplemental Environmental Impact Statement: I-70 Kansas City to St. Louis, MO

AGENCY: Federal Highway Administration (FHWA), DOT.

ACTION: Notice of Intent.

SUMMARY: The FHWA is issuing this notice to advise the public that a supplemental environmental impact statement (EIS) will be prepared for the approved I-70 First and Second Tier environmental documents. The I-70 corridor for this Supplemental EIS is from the I-470 interchange in Kansas City to near the Lake St. Louis interchange in St. Louis. The project length is approximately 199 miles.

FOR FURTHER INFORMATION CONTACT: Ms. Peggy Casey, Environmental Projects Engineer, FHWA Division Office, 3220 West Edgewood, Suite H, Jefferson City, MO 65109, Telephone: (573) 636-7104; or Mr. Kevin Keith, Chief Engineer, Missouri Department of Transportation, P.O. Box 270, Jefferson City, MO 65102, Telephone: (573) 751-2803.

SUPPLEMENTARY INFORMATION: The FHWA, in cooperation with the Missouri Department of Transportation (MoDOT), will prepare a Supplemental EIS to consider the impacts of dedicated truck lanes. This Supplemental EIS will include all necessary environmental, cultural resource, social and economic studies and will be coordinated closely with the public, city and county officials, Metropolitan Planning Organizations, Regional Planning Commissions, and resource agencies, as appropriate.

The FHWA and MoDOT completed a First Tier EIS for the I-70 corridor in December, 2001. Subsequent to the First Tier, FHWA and MoDOT completed Second Tier environmental documents for seven sections of independent utility across the corridor. The Second Tier documents were completed in 2006. The First Tier evaluated the I-70 corridor in a general nature and recommended the improvement strategy of reconstructing and widening the existing facility. The Second Tier documents evaluated the environmental impacts of this strategy. The evaluations in these traditional environmental documents were based on the I-70 facility consisting of three 12-foot lanes in each direction with 12-foot shoulders along with a 124-foot grassed median. The only exceptions were in the urban areas approaching Kansas City, Columbia, through the Warrenton-Wright City-Wentzville area, and the area known as Mineola Hill.

A study Management Group (SMG) was assembled during the First Tier environmental process and was continued through the Second Tier process. Periodic SMG progress meetings were held during the First and Second Tier processes with resource agency personnel, including representatives from the Missouri Department of Natural Resources, the Missouri Department of Conservation, the U.S. Army Corps of Engineers, the U.S. Fish and Wildlife Service, the Natural Resources Conservation Service, and the Environmental Protection Agency. Coordination with the SMG has been re-initiated for the Supplemental EIS process.

This Supplemental EIS will begin with an evaluation and comparison of a truck-only strategy to the Preferred Strategy identified in the original EIS. If the evaluation process results in the recommendation of the truck-only strategy, several alternatives for implementing truck-only lanes will be developed and evaluated to determine which are reasonable and which, if any, are not. It is anticipated that truck-only alternatives will provide four lanes of travel in each direction—two lanes for truck and two lanes for general-purpose traffic. Also, there are several different methods for providing access at interchanges, ranging from simple merge options to more complicated truck/car interchanges. Interchange operations and their related impacts will be evaluated during the supplemental process. In addition, the Supplemental EIS will consider funding options for the project. The study will not recommend a specific option, but will look at the issues and challenges associated with applying these funding options.

To date, a preliminary coordination/scoping meeting was held on January 29, 2008. Resource agencies from the reconvened SMG attended and participated in the meeting. It was agreed that existing coordinating and cooperating agency agreements already in place from the first and second tier processes will remain in effect for the supplemental process. Numerous opportunities for public input will be provided. The Improve I-70 project website will be updated to include the Supplemental EIS and there will be regular outreach to both the local and state-wide media. There will be two separate series of public meetings. Each will have meetings at three locations along the study corridor. Community advisory groups will be re-established in Columbia and Kingdom City. A meeting with Kingdom City was held on January 23, 2008. Opportunities for briefing/listening sessions with key statewide stakeholders or groups will be provided. A formal location public hearing will take place at three locations along the corridor, along with informal two-hour drop-in centers prior to public meetings and hearing. Public notice will be given announcing the time and place of all public meetings and the hearings. The Supplemental Draft EIS will be available for public and agency review and comment prior to the public hearings.

To ensure that the full range of issues related to this proposed action are addressed and all significant issues are identified, comments and suggestions are invited from all interested parties. Comments and questions concerning this proposed action and the Supplemental EIS should be directed to the FHWA or MoDOT at the addresses provided above.

(Catalog of Federal Domestic Assistance Program Number 20.205, Highway Planning and Construction. The regulations implementing Executive Order 12372 regarding intergovernmental consultation on Federal programs and activities apply to this program.)

Issued on: April 17, 2008.
Peggy J. Casey,
Environmental Project Engineer, Jefferson City.

[FR Doc. E8-8761 Filed 4-22-08; 8:45 am]

BILLING CODE 4910-22-P